DEPARTMENT OF COMMERCE

National Oceanic and Atmospheric Administration

RIN 0648-XF254

Pacific Fishery Management Council; Public Meeting

AGENCY: National Marine Fisheries Service (NMFS), National Oceanic and Atmospheric Administration (NOAA), Commerce.

ACTION: Notice of a public meeting.

SUMMARY: The Pacific Fishery Management Council (Pacific Council) will convene a pre-assessment workshop to review proposed data and modeling approaches for groundfish stock assessments scheduled for assessment this year. The pre-assessment workshop is open to the public. The workshop will also be streamed online via Webinar to facilitate remote participation.

DATES: The pre-assessment workshop will be held on Tuesday, March 21, 2017 from 1 p.m. until 5:30 p.m., or when business for the day has been completed. The workshop will reconvene on Wednesday, March 22, 2017 beginning at 8:30 a.m. and end on Thursday, March 23, 2017 at 5:30 p.m.

ADDRESSES: The pre-assessment workshop will be held in the large conference room at the Pacific Fishery Management Council office, 7700 NE Ambassador Place, Suite 101, Portland, OR 97220; telephone: 503-820-2280. Public listening stations will be available at the Pacific Council office, as well as the following locations:

National Marine Fisheries Service, Southwest Fisheries Science Center, Room 188, 110 McAllister Way, Santa Cruz, CA 95060; telephone: 831-420-3947.

Oregon Department of Fish and Wildlife, Main Conference Room, 2040 SE Marine Science Drive, Newport, OR 97365; telephone: 541-867-4741.

To attend the Webinar, visit: http://www.gotomeeting.com/online/Webinar/join-Webinar. Enter the Webinar ID, which is 848-202-715, and your name and email address (required). After logging into the Webinar, dial this TOLL number 1 + (213) 929-4232 (not a toll-free number), then enter the Attendee phone audio access code: 548-202-793, then enter your audio phone pin (shown after joining the Webinar). NOTE: We have disabled Mic/Speakers on GoToMeeting as an option and require all participants to use a telephone or cell phone to participate. You may send an email to Mr. Kris Kleinschmidt, at kris.kleinschmidt@noaa.gov or contact him, at 503-820-2280, extension 411 for technical assistance.

Council address: Pacific Fishery Management Council, 7700 NE Ambassador Place, Suite 101, Portland, Oregon 97220.

FOR FURTHER INFORMATION CONTACT: Ms. Stacey Miller, NMFS Northwest Fisheries Science Center; telephone: 541-867-0535; or Mr. John DeVore, Staff Officer, Pacific Council; telephone: 503-820-2280.

SUPPLEMENTARY INFORMATION:

Agenda

The purpose of the pre-assessment workshop is to review proposed data inputs, modeling approaches, and any other pertinent information for new benchmark stock assessments for lingcod, yelloweye rockfish, yellowtail rockfish, and blue/deacon rockfishes. There may be limited discussion of assessments for Pacific ocean perch and California scorpionfish, which are scheduled benchmark assessments this year; however, these stock assessments will not be the focus of the workshop. The goal of the pre-assessment workshop is to promote dialogue about and a common understanding between assessment teams and data providers of the best data and analytical and modeling approaches for use in conducting the benchmark groundfish assessments scheduled for 2017. No management actions will be decided by the workshop participants.

Although nonemergency issues not contained in the workshop agenda may be discussed, those issues may not be the subject of formal action during this workshop. Action will be restricted to those issues specifically listed in this notice and any issues arising after publication of this notice that require emergency action under section 305(c) of the Magnuson-Stevens Fishery Conservation and Management Act, provided the public has been notified of the intent of the workshop participants to take final action to address the emergency.

Visitors who are foreign nationals (defined as a person who is not a citizen or national of the United States) will require additional security clearance to access the NMFS Southwest Fisheries Science center facility. Foreign national visitors should contact Ms. Stacey Miller, at 541-867-0535 at least two weeks prior to the meeting date to initiate the security clearance process.

Technical Information and System Requirements

PC-based attendees: Windows® 7, Vista, or XP operating system required. Mac®-based attendees: Mac OS® X 10.5 or newer required. Mobile attendees: iPhone®, iPad®, Android™ phone or Android tablet required (use GoToMeeting Webinar Apps).

Special Accommodations

The workshop is physically accessible to people with disabilities. Requests for sign language interpretation or other auxiliary aids should be directed to Mr. Kris Kleinschmidt, at 503-820-2280, (see ADDRESSES) at least ten business days prior to the meeting date.

Authority: 16 U.S.C. 1801 et seq.

Dated: February 27, 2017.
Tracey L. Thompson,
Acting Director, Office of Sustainable Fisheries, National Marine Fisheries Service.

[FR Doc. 2017-04109 Filed 3-2-17; 8:45 am]

BILLING CODE 3510-22-P